DEPARTMENT OF THE INTERIOR

National Park Service

[NPS-WASO-NAGPRA-NPS0039951; PPWOCRADN0-PCU00RP14.R50000]

Notice of Inventory Completion: University of Tennessee, Department of Anthropology, Knoxville, TN

AGENCY: National Park Service, Interior.

ACTION: Notice.

SUMMARY: In accordance with the Native American Graves Protection and Repatriation Act (NAGPRA), the University of Tennessee, Department of Anthropology (UTK) has completed an inventory of human remains and has determined that there is a cultural affiliation between the human remains and Indian Tribes or Native Hawaiian organizations in this notice.

DATES: Repatriation of the human remains in this notice may occur on or after May 19, 2025.

ADDRESSES: Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

Human remains representing, at least, two individuals have been identified. No associated funerary objects are present. These individuals were removed from 14CY23, the Laflin Mound site, located in Clay County, KS, by Floyd Schultz during the 1920s and donated to the University of Kansas in 1948. These individuals were likely transferred to UTK by William Bass when he began working for UTK in 1971. The site dates to the Middle Woodland, circa 200 BCE-500 CE.

Human remains representing, at least, one individual have been identified. No associated funerary objects are present. This individual was removed from 14CY26, the Robert Younkin site, located in Clay County, KS, likely by Floyd Schultz in the 1920s. The circumstances that brought this individual to UTK are currently unknown, but based on past practice this individual likely came to UTK circa or post 1971 due to the actions of William Bass. This mound site dates to the Middle Woodland period.

Human remains representing, at least, eight individuals have been identified. No associated funerary objects are present. These individuals were removed from 14CY31, the Hartzell site, located in Clay County, KS, by Floyd Schultz during the 1920s and donated to the University of Kansas in 1948. These individuals were likely transferred to UTK by William Bass when he began working for UTK in 1971. This mound site dates to the Middle Woodland, circa 200 BCE-500 CE.

Human remains representing, at least, one individual have been identified. No associated funerary objects are present. This individual was removed from 14CY32, the Timber Creek site, located in Clay County, KS, by Floyd Schultz during the 1920s. This individual was likely transferred to UTK by William Bass when he began working for UTK in 1971. This mound site dates to the Middle Woodland, circa 200 BCE-500 CE, with a possible Early Plains component.

Human remains representing, at least, one individual have been identified. No associated funerary objects are present. This individual was removed from 14GE3, the Neimuller site, located in Geary County, KS, by Floyd Schultz during the 1920s. This individual was likely transferred to UTK by William Bass when he began working for UTK in 1971. This mound site dates to the Middle Woodland, circa 200 BCE-500 CE, with a Central Plains component, circa 900-1450 CE.

Human remains representing, at least, one individual have been identified. No associated funerary objects are present. This individual was removed from 14GE4, the A. Berry site, located in Geary County, KS, by Floyd Schultz during the 1920s. This individual was likely transferred to UTK by William Bass when he began working for UTK in 1971. This mound site possibly dates to Middle Woodland through Central Plains periods (circa 200 BCE-1450 CE).

Human remains representing, at least, one individual have been identified. No associated funerary objects are present. This individual was removed from 14GE6, the James Younkin site, located in Geary County, KS, likely by Floyd Schultz in the 1920s. The circumstances that brought this individual to UTK are currently unknown, but based on past practice this individual likely came to UTK circa or post 1971 due to the actions of William Bass. This mound site likely dates to the Middle Woodland (c. 200 BCE-500 CE).

Human remains representing, at least, one individual have been identified. No associated funerary objects are present. This individual was removed from 14GE7, the Dixon site, located in Geary County, KS, by Floyd Schultz during the 1920s. This individual was likely transferred to UTK by William Bass when he began working for UTK in 1971. This mound site likely dates to the Middle Woodland, circa 200 BCE-500 CE.

To our knowledge, the human remains described in this notice were not treated with any potentially hazardous substances.

Cultural affiliation between these human remains and the Indian Tribes listed in this notice was established via archaeological information, geographical information, historical information, Native American Traditional Knowledge/Expert Opinion, and oral history. Clay and Geary counties, KS, are part of the aboriginal lands of the Pawnee Nation of Oklahoma and the Kaw Nation, Oklahoma.

Cultural Affiliation

Based on the information available and the results of consultation, cultural affiliation is clearly identified by the information available about the human remains described in this notice.

Determinations

UTK has determined that:

• The human remains described in this notice represent the physical remains of 16 individuals of Native American ancestry.

• There is a connection between the human remains described in this notice and the Kaw Nation, Oklahoma and the Pawnee Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after May 19, 2025. If competing requests for repatriation are received, UTK must determine the most appropriate requestor prior to repatriation. Requests for joint repatriation of the human remains are considered a single request and not competing requests. UTK is responsible for sending a copy of this notice to the Indian Tribes and Native Hawaiian organizations identified in this notice.

(Authority: Native American Graves Protection and Repatriation Act, 25 U.S.C. 3003, and the implementing regulations, 43 CFR 10.10.)

Dated: April 8, 2025.
Melanie O'Brien,
Manager, National NAGPRA Program.

[FR Doc. 2025-06641 Filed 4-17-25; 8:45 am]

BILLING CODE 4312-52-P